DEPARTMENT OF COMMERCE

Foreign-Trade Zones Board

[Order No. 1913]

Approval for Manufacturing (Production) Authority; Foreign-Trade Zone 141; Firth Rixson, Inc. d/b/a Firth Rixson Monroe (Aircraft Turbine Components); Rochester, New York

Pursuant to its authority under the Foreign-Trade Zones Act of June 18, 1934, as amended (19 U.S.C. 81a-81u), the Foreign-Trade Zones Board (the Board) adopts the following Order:

Whereas, Monroe County, New York, grantee of Foreign-Trade Zone 141, has requested manufacturing (production) authority on behalf of Firth Rixson, Inc. d/b/a Firth Rixson Monroe (Firth Rixson), within FTZ 141 in Rochester, New York (FTZ Docket 30-2011, filed 4-29-2011);

Whereas, notice inviting public comment has been given in the Federal Register (76 FR 25300-25301, 5-4-2011; 77 FR 43572-43573, 7-25-2012; 78 FR 2658, 1-14-2013; 78 FR 9033, 2-7-2013) and the application has been processed pursuant to the FTZ Act and the Board's regulations; and,

Whereas, the Board adopts the findings and recommendations of the examiner's report, and finds that the requirements of the FTZ Act and the Board's regulations would be satisfied, and that the proposal would be in the public interest if approval were subject to restriction;

Now, therefore, the Board hereby orders:

The application for manufacturing (production) authority under zone procedures within FTZ 141 on behalf of Firth Rixson, as described in the application and Federal Register notice, is approved, subject to the FTZ Act and the Board's regulations, including Section 400.13, and further subject to a restriction requiring that Firth Rixson admit all foreign-status titanium products to the zone under privileged foreign status (19 CFR 146.41).

Signed at Washington, DC, this 29th day of August 2013.
Paul Piquado,
Assistant Secretary of Commerce for Import Administration, Alternate Chairman, Foreign-Trade Zones Board.

Attest:

Andrew McGilvray,
Executive Secretary.

[FR Doc. 2013-21904 Filed 9-6-13; 8:45 am]

BILLING CODE 3510-DS-P